SECURITIES AND EXCHANGE COMMISSION

Notice of Sunshine Act Meeting

Federal Register Citation of Previous Announcement:

Status: Closed Meeting.

Place: 100 F Street, NW., Washington, DC.

Date and Time of Previously Announced Meeting: Thursday, December 6, 2007 at 2 p.m.

Change In the Meeting: Deletion of an Item.

The following item will not be considered during the Closed Meeting on Thursday, December 6, 2007:

A matter involving enforcement techniques

At times, changes in Commission priorities require alterations in the scheduling of meeting items. For further information and to ascertain what, if any, matters have been added, deleted or postponed, please contact the Office of the Secretary at (202) 551-5400.

Dated: December 4, 2007.
Nancy M. Morris,
Secretary.

[FR Doc. E7-23789 Filed 12-4-07; 12:58 pm]

BILLING CODE 8011-01-P